DEPARTMENT OF AGRICULTURE

Forest Service

Newspapers Used for Publication of Legal Notices in the Southwestern Region, Which Includes Arizona, New Mexico, and Parts of Oklahoma and Texas

AGENCY: Forest Service, USDA.

ACTION: Notice.

SUMMARY: This notice lists the newspapers that will be used by all Ranger Districts, Grasslands, Forests, and the Regional Office of the Southwestern Region to give legal notice for the availability for comments on projects under 35 CFR 215, notice of decisions that may be subject to administrative appeal under 36 CFR part 215 or part 217, and for the opportunities to object to proposed authorized hazardous fuel reduction projects under 36 CFR 218.4. Newspaper publication of notices of opportunities to comment, to appeal decisions, or to file objections, is in addition to mailings and direct notice made to those who have participated in the project planning by submitting comments and/or requesting notice.

DATES: Use of these newspapers for the purpose of publishing legal notice for comment and decision that may be subject to appeal under 36 CFR part 215 and part 217 and for opportunity to object under 36 CFR 218 shall begin on the date of this publication and continue until further notice.

ADDRESSES: Southwestern Region, ATTN: Regional Appeals Assistant, 333 Broadway SE., Albuquerque, NM 87102-3498.

FOR FURTHER INFORMATION CONTACT: Connie Smith, 505-842-3223.

SUPPLEMENTARY INFORMATION: Responsible Officials in the Southwestern Region will give legal notice of decisions that may be subject to appeal under 36 CFR part 215 or part 217, or give opportunity to object under 36 CFR 218 in the following newspapers which are listed by Forest Service administrative unit. Where more than one newspaper is listed for any unit, the first newspaper listed is the primary newspaper of record which publication date shall be used for calculating the time period to file comment, appeal or an objection.

Southwestern Regional Office

Regional Forester

Notices of Availability for Comment, Decisions and Objections affecting New Mexico Forests:—“Albuquerque Journal”, Albuquerque, New Mexico, for National Forest System Lands in the State of New Mexico and for any projects of Region-wide impact.

Regional Forester Notices of Availability for Comment and Decisions and Objections affecting Arizona Forests:—“The Arizona Republic”, Phoenix, Arizona, for National Forest System lands in the State of Arizona and for any projects of Region-wide impact.

Regional Forester Notices of Availability for Comment and Decisions and Objections affecting National Grasslands in New Mexico, Oklahoma, and Texas are listed by Grassland and location as follows: Kiowa National Grassland notices published in:—“Union County Leader”, Clayton New Mexico. Rita Blanca National Grassland in Cimarron County, Oklahoma notices published in:—“Boise City News”, Boise City, Oklahoma. Rita Blanca National Grassland in Dallam County, Texas notices published in:—“The Dalhart Texan”, Dalhart, Texas. Black Kettle National Grassland in Roger Mills County, Oklahoma notices published in:—“Cheyenne Star”, Cheyenne, Oklahoma. Black Kettle National Grassland in Hemphill County, Texas notices published in:—“The Canadian Record”, Canadian, Texas. McClellan Creek National Grassland in Gray County, Texas notices published:—“The Pampa News”, Pampa, Texas.

Arizona National Forests

Apache-Sitgreaves National Forests

Notices of Availability for Comment, Decisions and Objections by Forest Supervisor and Alpine Ranger District and Black Mesa Ranger District and Lakeside Ranger District and Springerville Ranger District are published in:—“The White Mountain Independent”, Show Low and Navajo County, Arizona.

Clifton Ranger District Notices are published in:—“Cooper Era”, Clifton, Arizona.

Coconino National Forest

Notices of Availability for Comment, Decisions and Objections by Forest Supervisor and Mogollon Ranger District and Mormon Lake Ranger District and Peaks Ranger District are published in:—“Arizona Daily Sun”, Flagstaff, Arizona. Red Rock Ranger District Notices are published in:—“Red Rock News”, Sedona, Arizona.

Coronado National Forest

Notices for Availability for Comments, Decisions and Objections by Forest Supervisor and Santa Catalina Ranger District are published in:—“The Arizona Daily Star”, Tucson, Arizona.

Douglas Ranger District Notices are published in:—“Daily Dispatch”, Douglas, Arizona.

Nogales Ranger District Notices are published in:—“Nogales International”, Nogales, Arizona.

Sierra Vista Ranger District Notices are published in:—“Sierra Vesta Herald”, Sierra Vista, Arizona.

Safford Ranger District Notices are published in:—“Eastern Arizona Courier”, Safford, Arizona.

Kaibab National Forest

Notices for Availability for Comments, Decisions and Objections by Forest Supervisor and North Kaibab District and Tusayan District and Williams District Notices are published in:—“Arizona Daily Sun”, Flagstaff, Arizona.

Prescott National Forest

Notices for Availability for Comments, Decisions and Objections by Forest Supervisor and Bradshaw Ranger District and Chino Valley Ranger District and Verde Ranger District are published in:—“Prescott Courier”, Prescott, Arizona.

Tonto National Forest

Notices for Availability for Comments, Decisions and Objections by Forest Supervisor are published in:—“East Valley Tribune” and “Scottsdale Tribune”, Mesa, Arizona.

Cave Creek Ranger District Notices are published in:—“Scottsdale Tribune”, in Mesa, Arizona.

Globe Ranger District Notices are published in:—“Arizona Silver Belt”, Globe, Arizona.

Mesa Ranger District Notices are published in:—“East Valley Tribune”, Mesa, Arizona.

Payson Ranger District and Pleasant Valley Ranger District and Tonto Basin Ranger District Notice are published in:—“Payson Roundup”, Payson, Arizona.

New Mexico National Forests

Carson National Forest

Notices of Availability for Comments, Decisions and Objections by Forest Supervisor and Camino Real Ranger District and Tres Piedras Ranger District and Questa Ranger District are published in:—“The Taos News”, Taos, New Mexico. Canjilon Ranger District and El Rito Ranger District Notices are published in —“Rio Grande Sun”, Espanola, New Mexico.

Jicarilla Ranger District Notices are published in:—“Farmington Daily Times”, Farmington, New Mexico.

Cibola National Forest and National Grasslands

Notices for Availability for Comments, Decisions and Objections by Forest Supervisor affecting lands in New Mexico, except the National Grasslands are published in:—“Albuquerque Journal”, Albuquerque, New Mexico.

Forest Supervisor Notices affecting National Grasslands in New Mexico, Oklahoma and Texas are published by grassland and location as follows: Kiowa National Grassland in Colfax, Harding, Mora and Union Counties, New Mexico published in:—“Union County Leader”, Clayton, New Mexico. Rita Blanca National Grassland in Cimarron County, Oklahoma published in:—“Boise City News”, Boise City, Oklahoma. Rita Blanca National Grassland in Dallam County, Texas published in:—“The Dalhart Texan”, Dalhart, Texas. Black Kettle National Grassland, in Roger Mills County, Oklahoma published in:—“Cheyenne Star”, Cheyenne, Oklahoma.

Black Kettle National Grassland, in Hemphill County, Texas published in:—“The Canadian Record”, Canadian, Texas. McClellan Creek National Grassland published in:—“The Pampa News”, Pampa, Texas.

Mt. Taylor Ranger District Notices are published in:—“Cibola County Beacon”, Grants, New Mexico.

Magdalena Ranger District Notices are published in:—“Defensor—Chieftain”, Socorro, New Mexico.

Mountainair Ranger District Notices are published in:—“Mountainview Telegraph”, Tijeras, New Mexico.

Sandia Ranger District Notices are published in:—“Albuquerque Journal”, Albuquerque, New Mexico.

Kiowa National Grassland Notices are published in:—“Union County Leader”, Clayton, New Mexico.

Rita Blanca National Grassland Notices in Cimarron County, Oklahoma are published in:—“Boise City News”, Boise City, Oklahoma while Rita Blanca National Grassland Notices in Dallam County, Texas are published in:—“Dalhart Texan”, Dalhart, Texas.

Black Kettle National Grassland Notices in Roger Mills County, Oklahoma are published in:—“Cheyenne Star”, Cheyenne, Oklahoma, while Black Kettle National Grassland Notices in Hemphill County, Texas are published in:—“The Canadian Record”, Canadian, Texas.

McClellan Creek National Grassland Notices are published in:—“The Pampa News”, Pampa, Texas.

Gila National Forest

Notices for Availability for Comments, Decisions and Objections by Forest Supervisor and Quemado Ranger District and Reserve Ranger District and Glenwood Ranger District and Silver City Ranger District and Wilderness Ranger District are published in:—“Silver City Daily Press”, Silver City, New Mexico.

Black Range Ranger District Notices are published in:—“The Herald”, Truth or Consequences, New Mexico.

Lincoln National Forest

Notices for Availability for Comments, Decisions and Objections by Forest Supervisor and Sacramento Ranger District are published in:—“Alamogordo Daily News”, Alamogordo, New Mexico.

Guadalupe Ranger District Notices are published in:—“Carlsbad Current Argus”, Carlsbad, New Mexico.

Smokey Bear Ranger District Notices are published in:—“Ruidoso News”, Ruidoso, New Mexico.

Santa Fe National Forest

Notices for Availability for Comments, Decisions, and Objections by Forest Supervisor and Coyote Ranger District and Cuba Ranger District and Espanola Ranger District and Jemez Ranger District and Pecos-Las Vegas Ranger District are published in:—“Albuquerque Journal”, Albuquerque, New Mexico.

Dated: April 6, 2005.
Abel Camarena,
Deputy Regional Forester, Southwestern Region.

[FR Doc. 05-7887 Filed 4-19-05; 8:45 am]

BILLING CODE 3410-11-M